FEDERAL COMMUNICATIONS COMMISSION

47 CFR Part 15

[ET Docket 99-231; FCC 01-158]

Spread Spectrum Devices; and Wi-LAN, Inc. Application

AGENCY: Federal Communications Commission.

ACTION: Final rule.

SUMMARY: This document denies Wi-LAN's Application for Review and grants a waiver request for equipment certification for Wi-LAN's Wideband Orthogonal Frequency Division Multiplexing (W-OFDM) system and similar systems that operate in the 2.4-2.483 GHz band if they meeting the existing rules for direct sequence spread spectrum systems. We take this action to serve the public interest.

DATES: Effective June 12, 2001.

FOR FURTHER INFORMATION CONTACT: Neal McNeil, Office of Engineering and Technology, (202) 418-2408, TTY (202) 418-2989, e-mail: nmcneil@fcc.gov.

SUPPLEMENTARY INFORMATION: This is a summary of the Commission's Further Notice of Proposed Rule Making and Order, ET Docket 99-231, FCC 01-158, adopted May 10, 2001 and released May 11, 2001. The full text of this document is available for inspection and copying during regular business hours in the FCC Reference Center (Room CY-A257), 445 12th Street, SW, Washington, DC 20554. The complete text of this document also may be purchased from the Commission's duplication contractor, International Transcription Service, Inc., (202) 857-3800, 1231 20th Street, NW., Washington, DC 20036.

Summary of Order

1. Wi-LAN Application for Review. On February 17, 2000, Wi-LAN filed an application for equipment certification for its Wideband Orthogonal Frequency Division Multiplexing (W-OFDM) transmitter under the rules for direct sequence spread spectrum systems. The Commission's Office of Engineering and Technology (“OET”) denied that application on the basis that Wi-LAN's W-OFDM device did not meet the definition of a direct sequence spread spectrum system as set forth in § 2.1 of the rules. Subsequently, OET denied Wi-LAN's Petition for Reconsideration of that decision for the same reasons. Wi-LAN filed an Application for Review of the staff action. In this filing, Wi-LAN argues that its device meets all the technical requirements explicitly stated in the rules for direct sequence spread spectrum systems and should be granted certification. We find that OET acted properly in denying Wi-LAN's application for certification. In this regard, we agree with OET that Wi-LAN's W-OFDM device does not meet the definition of a direct sequence spread spectrum system as set forth in § 2.1 of the rules. The Wi-LAN system does however, resemble a spread spectrum system in its spectrum characteristics. Notwithstanding our finding that Wi-LAN's W-OFDM system is not a spread spectrum system as defined in our rules, we find that it will serve the public interest to allow grant of equipment certification now for this system and similar systems that operate in the 2.4-2.483 GHz band if they meet the existing rules for direct sequence spread spectrum systems in 47 CFR 15.247(a), (b), (c), and (d), conditioned on their compliance with any final rules that may be adopted in this proceeding. Accordingly, the Commission will waive, on an interim basis, the restriction of 47 CFR 15.247(a) that limits operation pursuant to the remaining portions of 47 CFR 15.247 to frequency hopping and direct sequence spread spectrum systems. We find that there is good cause to waive the cited rule during the pendency of this proceeding because such devices have generally the same emission mask as currently authorized devices and thus will not undermine the existing rules. Digital modulation systems closely resemble spread spectrum systems in terms of their spectrum occupancy characteristics, and therefore are not likely to pose any increased risk of interference over that posed by spread spectrum systems. We believe that compliance with the rules, which address spectrum occupancy, power, out-of-band emissions, and antennas, will ensure that digital modulation systems operating in the 2.4 GHz band will operate with the same spectrum occupancy characteristics as spread spectrum systems. We also observe that such systems appear to offer capabilities in terms of broadband data transmission capacity that are likely to make them more desirable than traditional spread spectrum systems for many users. Allowing authorization of digital modulation systems now will avoid the delays otherwise imposed by our rulemaking process and thereby substantially speed the process for implementation of these new system designs. In this regard, our decision to waive the restrictions which prevent authorization of such systems reflects our view that it is appropriate and desirable to take steps wherever possible to facilitate the timely and efficient introduction of new technologies and equipment, and particularly those that will support the development and deployment of broadband infrastructure without threat to incumbent operations and devices. For the reasons indicated in this Further Notice of Proposed Rule Making and Order (FNPRM and Order) that the Commission released on May 11, 2001, we believe that authorization of Wi-LAN's device and other digital modulation systems prior to our adoption of final rules will not result in harm to other radio operations. Consistent with Wi-LAN's application for equipment certification, we will require that any devices granted prior to the adoption of new rules pursuant to the provisions of paragraph 26 of the FNPRM and Order comply with a maximum peak output power limit of 100 mW. In addition, any devices so conditionally authorized will have to comply with whatever rules we ultimately adopt for digital modulation systems in the 2.4 MHz band. Accordingly, we are instructing the Commission's Office of Engineering and Technology (“OET”) to re-examine the Wi-LAN application for certification of its W-OFDM system for its compliance with the above listed portions of 47 CFR 15.247 of the rules and the power limits indicated. OET shall also accept applications for equipment certification under 47 CFR 15.247 for other devices using digital modulation techniques if the equipment complies with the provisions stated in the FNPRM and Order. Such applications submitted pursuant to the provisions of the FNPRM and Order need not be accompanied by a formal waiver request, but should state that they fall within the terms of the FNPRM and Order as to the waiver. Any such applications will be subjected to the conditions set forth in the FNPRM and Order, including that operation is conditioned on compliance with any final rules that may be adopted in this proceeding.

2. Pursuant to sections 4(i), 301, 302, 303(e), 303(f), and 303(r) of the Communications Act of 1934, as amended, 47 U.S.C. Sections 154(i), 301, 302, 303(e), 303(f), and 303(r), the Application for Review filed by Wi-LAN, Inc., on September 20, 2000 is hereby DENIED.

List of Subjects in 47 CFR Part 15

Communications equipment.

Federal Communications Commission.
Magalie Roman Salas,
Secretary.

[FR Doc. 01-14525 Filed 6-11-01; 8:45 am]

BILLING CODE 6712-01-P